DEPARTMENT OF DEFENSE

Office of the Secretary

[Transmittal No. 22-15]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-15 with attached Policy Justification and Sensitivity of Technology.

Dated: May 8, 2024.
Aaron T. Siegel,
Alternate OSD Federal Register Liaison Officer, Department of Defense.

Transmittal No. 22-15

Notice of Proposed Issuance of Letter of Offer Pursuant to Section 36(b)(1) of the Arms Export Control Act, as amended

(i) Prospective Purchaser: Government of Australia

(ii) Total Estimated Value:

Major Defense Equipment * | $ 34 million
Other | $ 88 million
TOTAL | $122 million

(iii) Description and Quantity or Quantities of Articles or Services under Consideration for Purchase: The Government of Australia has requested the possible sale of AN/AAQ 24(V)N Large Aircraft Infrared Countermeasures (LAIRCM) component systems required to support an ongoing upgrade of its large Air Mobility Platforms, which include C-17As, KC-30As, and C-130Js.

Major Defense Equipment (MDE):

Twenty-seven (27) AN/AAQ 24(V)N Large Aircraft Infrared Countermeasures (LAIRCM) System Processor Replacements (LSPR) (27 installed, 0 spares)

Thirty (30) Guardian Laser Turret Assemblies (GLTA) (30 installed, 0 spares)

Non-MDE:

Also included are LAIRCM Control Indicator Unit Replacements (CIURs); Advanced Threat Missile Warning Sensors (ATWs); Smart Card Assemblies (SCAs); High Capacity Cards/User Data Memory Cards (HCCs/UDMs) (installed and spares); Simple Key Loaders; initial spares, consumables, and repair/return support; support and test equipment; integration and test support; personnel training, publications and technical documentation; U.S. Government and contractor engineering, technical and logistics support services; and other related elements of logistical and program support.

(iv) Military Department: Air Force (AT-D-BAA)

(v) Prior Related Cases, if any: AT-D-QCR, AT-D-QAE, AT-D-QCS, AT-D-SAQ, AT-D-SEN, AT-D-SGT

(vi) Sales Commission, Fee, etc., Paid, Offered, or Agreed to be Paid: None

(vii) Sensitivity of Technology Contained in the Defense Article or Defense Services Proposed to be Sold: See Attached Annex

(viii) Date Report Delivered to Congress: February 22, 2022

* As defined in Section 47(6) of the Arms Export Control Act.

POLICY JUSTIFICATION

Australia—LAIRCM Line Replaceable Units (LRUs)

The Government of Australia has requested the possible sale of AN/AAQ 24(V)N Large Aircraft Infrared Countermeasures (LAIRCM) component systems required to support an ongoing upgrade of its large Air Mobility Platforms, which include C-17As, KC-30As, and C-130Js. As such, the Government of Australia has requested to buy twenty-seven (27) AN/AAQ 24(V)N Large Aircraft Infrared Countermeasures (LAIRCM) System Processor Replacements (LSPR) (27 installed, 0 spares); and thirty (30) Guardian Laser Turret Assemblies (GLTA) (30 installed, 0 spares). Also included are LAIRCM Control Indicator Unit Replacements (CIURs); Advanced Threat Missile Warning Sensors (ATWs); Smart Card Assemblies (SCAs); High Capacity Cards/User Data Memory Cards (HCCs/UDMs) (installed and spares); Simple Key Loaders; initial spares, consumables, and repair/return support; support and test equipment; integration and test support; personnel training, publications and technical documentation; U.S. Government and contractor engineering, technical and logistics support services; and other related elements of logistical and program support. The estimated total value is $122 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats by providing modern protection for large air mobility platforms. These countermeasures are crucial to defeating modern threats. Australia will have no difficulty absorbing these articles into its armed forces.

The proposed sale of this equipment and support will not alter the basic military balance in the region.

The principal contractors will be Northrup Grumman Corporation, Rolling Meadows, IL; and The Boeing Company, Long Beach, CA, and San Antonio, TX. There are no known offset agreements proposed in connection with this potential sale.

Implementation of this proposed sale will require the assignment of 0.5 Full-Time Equivalent (FTE) additional U.S. Government representatives and 0.5 FTE U.S. contractor representatives to support Australia from the U.S. for a duration of five (5) years to support program management and engineering activities necessary to field and sustain LAIRCM on multiple Royal Australian Air Force platforms.

There will be no adverse impact on U.S. defense readiness as a result of this proposed sale.

Transmittal No. 22-15

Notice of Proposed Issuance of Letter of Offer Pursuant to Section 36(b)(1) of the Arms Export Control Act

Annex

Item No. vii

(vii) Sensitivity of Technology:

1. The AN/AAQ-24(V)N LAIRCM system is a self-contained, directed-energy countermeasures system designed to protect aircraft from infrared-guided surface-to-air missiles. The LAIRCM system features digital technology micro-miniature solid-state electronics. The system operates in all conditions, detecting incoming missiles and jamming infrared-seeker equipped missiles with aimed bursts of laser energy. The LAIRCM system consists of the Guardian Laser Transmitter Assembly (GLTA), LAIRCM System Processor Replacement (LSPR), multiple Advanced Threat Missile Warning Sensors (ATW), the Control Interface Unit Replacement (CIUR), and the Classified Memory Card User Data Module. The AN/PYQ-10 Simple Key Loader is also a necessary device.

2. The Guardian Laser Transmitter Assembly (GLTA) is a laser transmitter pointer/tracker subsystem designed to track the inbound threat missile and point the laser jam source at the missile's seeker. The GLTA automatically deploys the countermeasure.

3. The LAIRCM System Processor Replacement (LSPR) analyzes the data from each Missile Warning Sensor and automatically deploys the appropriate countermeasure via the GLTA. The LSPR contains Built-in-Test (BIT) circuitry.

4. The AN/PYQ-10 Simple Key Loader is a portable, hand-held device used for securely receiving, storing, and transferring data between compatible cryptographic and communications equipment.

5. The Advanced Threat Missile Warning Sensors (ATW) detect and declare threat missiles. The sensors are mounted on the aircraft exterior to provide omni-directional protection. The sensors detect the rocket plume of missiles and send appropriate data signals to the LSPR for processing.

6. The Control Interface Unit Replacement (CIUR) displays the incoming threat for the pilot to take appropriate action. The CIUR also provides operator interface to program the LAIRCM system to initiate built-in-test (BIT), to display system status, and to provide the crew with bearing to threat missile launch.

7. The Classified Memory Card User Data Module contains the laser jam codes. The Classified Memory Card User Data Module is loaded into the LSPR prior to flight; when not in use, the Classified Memory Card User Data Module is removed from the LSPR and put in secure storage.

8. The highest level of classification of defense articles, components, and services included in this potential sale is SECRET.

9. If a technologically advanced adversary were to obtain knowledge of the specific hardware and software elements, the information could be used to develop countermeasures that might reduce weapon system effectiveness or be used in the development of a system with similar or advanced capabilities.

10. A determination has been made that Australia can provide substantially the same degree of protection for the sensitive technology being released as the U.S. Government. This sale is necessary in furtherance of the U.S. foreign policy and national security objectives outlined in the Policy Justification.

11. All defense articles and services listed in this transmittal have been authorized for release and export to the Government of Australia.

[FR Doc. 2024-10387 Filed 5-10-24; 8:45 am]

BILLING CODE 6001-FR-P